DEPARTMENT OF ENERGY

Federal Energy Regulatory Commission

[Docket No. ER00-3216-002, et al.]

Mid-Atlantic Energy Development Company, et al.; Electric Rate and Corporate Regulation Filings

October 10, 2000

Take notice that the following filings have been made with the Commission:

1. Mid-Atlantic Energy Development Company

[Docket No. ER00-3216-002]

Take notice that on October 5, 2000, Mid-Atlantic Energy Development Company (Mid-Atlantic), tendered for filing an amendment to its application in this proceeding that included a revised Statement of Policy and Code of Conduct with Respect to the Relationship between Mid-Atlantic and the FirstEnergy Operating Companies. Mid-Atlantic requested that the revised Statement of Policy and Code of Conduct be substituted for that previously submitted on August 21, 2000.

Comment date: October 26, 2000, in accordance with Standard Paragraph E at the end of this notice.

2. Carolina Power & Light Company

[Docket No. ER01-33-000]

Take notice that on October 4, 2000, Carolina Power & Light Company (CP&L), tendered for filing Service Agreements for Short-Term Firm and Non-Firm Point-to-Point Transmission Service with FirstEnergy Corp., and a Service Agreement for Non-Firm Point-to-Point Transmission Service with Oglethorpe Power Corporation. Service to each Eligible Customer will be in accordance with the terms and conditions of Carolina Power & Light Company's Open Access Transmission Tariff.

CP&L is requesting an effective date of September 25, 2000 for the Agreement with Oglethorpe and September 29, 2000 for the Agreements with FirstEnergy.

Copies of the filing were served upon the North Carolina Utilities Commission and the South Carolina Public Service Commission.

Comment date: October 25, 2000, in accordance with Standard Paragraph E at the end of this notice.

3. Pacific Gas and Electric Company

[Docket No. ER01-34-000]

Take notice that on October 4, 2000, Pacific Gas and Electric Company (PG&E), tendered for filing a Generator Special Facilities Agreement, a Generator Interconnection Agreement, and a Supplemental Letter Agreement to GSFA for Sonoma Generating Facility Owned by Geysers Power Company, L.L.C. (collectively, the Agreements) between PG&E and the Geysers Power Company, L.L.C. (collectively, Parties) to correct the rate schedule designations on these Agreements in compliance with the Commission's Letter Order dated September 20, 2000. That Letter Order conditionally accepted these Agreements effective on March 1, 2000 provided that PG&E refile these Agreements with corrected rate schedule designations as required in Order No. 614, FERC Stats. & Regs. ¶ 31,096.

Copies of this filing have been served upon Geysers Power, Sacramento Municipal Utility District, and the California Public Utilities Commission.

Comment date: October 25, 2000, in accordance with Standard Paragraph E at the end of this notice.

4. Cinergy Services, Inc.

[Docket No. ER01-35-000]

Take notice that on October 4, 2000, Cinergy Services, Inc. (Cinergy) and Allegheny Power are requesting a cancellation of Service Agreement No. 6, under Cinergy Operating Companies, Resale of Transmission Rights and Ancillary Service Rights, FERC Electric Tariff Original Volume No. 8.

Cinergy requests an effective date of October 1, 2000.

Comment date: October 25, 2000, in accordance with Standard Paragraph E at the end of this notice.

5. Puget Sound Energy, Inc.

[Docket No. ER01-37-000]

Take notice that on October 4, 2000, Puget Sound Energy, Inc., as Transmission Provider tendered for filing a Service Agreement for Short-Term Firm Point-To-Point Transmission Service with the United States of America Department of Energy acting by and through the Bonneville Power Administration (Bonneville), as Transmission Customer.

A copy of the filing was served upon Bonneville.

Comment date: October 25, 2000, in accordance with Standard Paragraph E at the end of this notice.

6. Louisville Gas and Electric Company/Kentucky Utilities Company

[Docket No. ER01-38-000]

Take notice that on October 4, 2000, Louisville Gas and Electric Company (LG&E)/Kentucky Utilities (KU) (hereinafter Companies), tendered for filing an unexecuted unilateral Service Sales Agreement between Companies and PPL EnergyPlus, LLC under the Companies' Rate Schedule MBSS.

Comment date: October 25, 2000, in accordance with Standard Paragraph E at the end of this notice.

7. Commonwealth Edison Company

[Docket No. ER01-39-000]

Take notice that on October 4, 2000, Commonwealth Edison Company (ComEd) tendered for filing an executed service agreement for Conectiv Energy Supply, Inc. (Conectiv) under ComEd's FERC Electric Market Based-Rate Schedule for power sales.

ComEd requests an effective date of September 21, 2000, for the service agreement and accordingly seeks waiver of the Commission's notice requirements. Copies of this filing were served on Conectiv.

Comment date: October 25, 2000, in accordance with Standard Paragraph E at the end of this notice.

8. Quinnipiac Energy, LLC

[Docket No. ER01-40-000]

Take notice that on October 4, 2000, Quinnipiac Energy, LLC (Quinnipiac) tendered for filing an application under Section 205 of the Federal Power Act requesting approval of it proposed market-based rate, waiver of certain regulations, and blanket approvals. The proposed market-based rate governs Quinnipiac's sales of capacity and energy at wholesale, the sale of ancillary services and the sale, assignment or transfer of transmission capacity or other transmission service or rights of Quinnipiac.

Comment date: October 25, 2000, in accordance with Standard Paragraph E at the end of this notice.

9. Sithe Fore River Development LLC

[Docket No. ER01-41-000]

Take notice that on October 4, 2000, Sithe Fore River Development LLC (Sithe Fore River Development), tendered for filing an application (the Application) under Section 205 of the Federal Power Act petitioning the Commission for acceptance of its proposed FERC Electric Rate Schedules Nos. 1 and 2. Sithe Fore River Development requests authority to make wholesale power sales, including energy, capacity and ancillary services at market-based rates, requests certain blanket authorizations, and waiver of certain of the Commission's Regulations.

Sithe Fore River Development requests that the tendered rate schedules become effective as of the later of the closing date of the stock sale transaction by which 49.9 percent of the outstanding stock in Sithe Energies, Inc., is transferred to Exelon (Fossil) Holdings, L.L.C., and the closing date of the Sithe Boston Financing transaction, as described within the Application.

Comment date: October 25, 2000, in accordance with Standard Paragraph E at the end of this notice.

10. Sithe Mystic Development LLC

[Docket No. ER01-42-000]

Take notice that on October 4, 2000, Sithe Mystic Development LLC (Sithe Mystic Development), tendered for filing an application (the Application) under Section 205 of the Federal Power Act petitioning the Commission for acceptance of its proposed FERC Electric Rate Schedules Nos. 1 and 2. Sithe Mystic Development requests authority to make wholesale power sales, including energy, capacity and ancillary services at market-based rates, requests certain blanket authorizations, and waiver of certain of the Commission's Regulations.

Sithe Mystic Development requests that the tendered rate schedules become effective as of the later of the closing date of the stock sale transaction by which 49.9 percent of the outstanding stock in Sithe Energies, Inc., is transferred to Exelon (Fossil) Holdings, L.L.C., and the closing date of the Sithe Boston Financing transaction, as described within the Application.

Comment date: October 25, 2000, in accordance with Standard Paragraph E at the end of this notice.

11. Cinergy Services, Inc.

[Docket No. ER01-43-000]

Take notice that on October 5, 2000, Cinergy Services, Inc. (Cinergy), tendered for filing a Service Agreement under Cinergy's Resale, Assignment or Transfer of Transmission Rights and Ancillary Service Rights Tariff (the Tariff) entered into between Cinergy and Reliant Energy Services, Inc., (Reliant). This Service Agreement has been executed by both parties and is to replace the existing unexecuted Service Agreement.

Comment date: October 26, 2000, in accordance with Standard Paragraph E at the end of this notice.

12. Cinergy Services, Inc.

[Docket No. ER01-44-000]

Take notice that on October 5, 2000, Cinergy Services, Inc. (Cinergy), tendered for filing a Service Agreement under Cinergy's Resale, Assignment or Transfer of Transmission Rights and Ancillary Service Rights Tariff (the Tariff) entered into between Cinergy and Commonwealth Edison Company (ComEd). This Service Agreement has been executed by both parties and is to replace the existing unexecuted Service Agreement.

Comment date: October 26, 2000, in accordance with Standard Paragraph E at the end of this notice.

13. Cinergy Services, Inc.

[Docket No. ER01-45-000]

Take notice that on October 5, 2000, Cinergy Services, Inc. (Cinergy), tendered for filing a Service Agreement under Cinergy's Resale, Assignment or Transfer of Transmission Rights and Ancillary Service Rights Tariff (the Tariff) entered into between Cinergy and Griffin Energy Marketing, L.L.C., (Griffin). This Service Agreement has been executed by both parties and is to replace the existing unexecuted Service Agreement.

Comment date: October 26, 2000, in accordance with Standard Paragraph E at the end of this notice.

Standard Paragraphs

E. Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions or protests should be filed on or before the comment date. Protests will be considered by the Commission in determining the appropriate action to be taken, but will not serve to make protestants parties to the proceeding. Any person wishing to become a party must file a motion to intervene. Copies of these filings are on file with the Commission and are available for public inspection. This filing may also be viewed on the Internet at http://www.ferc.fed.us/ online/rims.htm (call 202-208-2222 for assistance).

David P. Boergers,
Secretary.

[FR Doc. 00-26549 Filed 10-16-00; 8:45 am]

BILLING CODE 6717-01-P